OFFICE OF THE UNITED STATES TRADE REPRESENTATIVE

[Docket No. USTR-2013-0023]

Notice of Determination in Section 301 Investigation of Ukraine

AGENCY: Office of the United States Trade Representative.

ACTION: Notice.

SUMMARY: The United States Trade Representative (Trade Representative) has determined that certain intellectual property rights (IPR) acts, policies, and practices of Ukraine are unreasonable and burden or restrict United States commerce and are thus actionable under section 301(b) of the Trade Act of 1974, as amended (Trade Act). In light of the current political situation in Ukraine, the Trade Representative has determined that no action under section 301 is appropriate at this time.

FOR FURTHER INFORMATION CONTACT: Questions regarding this investigation should be directed as appropriate to: Elizabeth Kendall, Director for Intellectual Property and Innovation, Office of the United States Trade Representative, at (202) 395-3580; Isabella Detwiler, Director for Europe, at (202) 395-6146; or Shannon Nestor, Assistant General Counsel, at (202) 395-3150.

DATES: The Trade Representative made the determinations in this investigation on February 28, 2014.

SUPPLEMENTARY INFORMATION: On May 30, 2013, the Trade Representative initiated a Section 301 investigation of certain acts, policies, and practices of the Government of Ukraine with respect to intellectual property rights. See Identification of Ukraine as a Priority Foreign Country and Initiation of Section 301 Investigation, 78 FR 33886 (June 5, 2013). The acts, policies, and practices subject to investigation were those that formed the basis of Ukraine's designation in the May 1, 2013 Special 301 Report as a Priority Foreign Country. Those acts, policies, and practices involved: (1) The administration of Ukraine's system for collecting societies, which are responsible for collecting and distributing royalties to U.S. and other rights holders; (2) use of infringing software by Ukrainian government agencies; and (3) online infringement of copyright and related rights. The notice of initiation proposed a determination that these acts, policies, and practices are actionable under section 301(b), invited public comments on the matters subject to investigation, and provided notice of a public hearing.

The Office of the United States Trade Representative (USTR) held the public hearing on September 9, 2013. See Notice of Rescheduled Hearing in the Section 301 Investigation of Ukraine, 78 FR 45011 (July 25, 2013). Written submissions and testimony may be viewed on www.regulations.gov under the above-referenced docket number.

On November 29, 2013, the Trade Representative determined to extend the investigation by three months, such that the determinations in the investigation would be made by no later than February 28, 2014. See Notice of Determination to Extend Section 301 Investigation of Ukraine, 78 FR 72141 (December 2, 2013).

During the investigation, U.S. and Ukrainian officials held constructive discussions regarding the acts, policies and practices subject to investigation. However, U.S. concerns with those acts, policies, and practices were not resolved.

Based on the information obtained during the investigation, and consistent with the recommendation of the interagency Section 301 Committee, the Trade Representative has determined under Section 304(a)(1)(A) and (B) of the Trade Act that: (1) The acts, policies, and practices subject to investigation are unreasonable and burden or restrict U.S. commerce, and are thus actionable under Section 301(b) of the Trade Act; and (2) in light of the current political situation in Ukraine, no action under Section 301(b) is appropriate at this time.

USTR remains committed to addressing the matters subject to investigation, and looks forward to further engagement with the Government of Ukraine at an appropriate time.

William Busis,
Chair, Section 301 Committee.

[FR Doc. 2014-05536 Filed 3-12-14; 8:45 am]

BILLING CODE 3290-F4-P